DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication, and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. The communications listed are grouped by docket numbers in ascending order. These filings are available for review at the Commission in the Public Reference Room or may be viewed on the Commission's Web site at http://www.ferc.gov using the eLibrary link. Enter the docket number, excluding the last three digits, in the docket number field to access the document. For assistance, please contact FERC, Online Support at FERCOnlineSupport@ferc.gov or toll free at (866) 208-3676, or for TTY, contact (202) 502-8659.

Docket No. | Filed date | Presenter or requester
Prohibited:
1. ER13-1380-000 | 4-30-14 | Luci Jessi Young.¹
2. CP13-113-000 | 5-6-14 | Mark Ambroziak.
Exempt:
1. CP13-483-000, CP13-492-000 | 4-21-14 | FERC Staff.²
2. P-405-106, P-2355-018 | 4-22-14 | FERC Staff.³
3. P-2210-000 | 4-23-14 | Virginia Delegate Charles D. Poindexter.
4. CP14-119-000, CP14-120-000, CP14-122-000, PF12-8-000 | 4-23-14 | Railroad Commission of Texas.⁴
5. CP13-499-000, CP13-502-000 | 4-23-14 | Hon. Chis Gibson.
6. CP14-120-000, CP14-119-000, CP14-122-000, PF12-8-000 | 4-23-14 | State of Texas Rep. Jim Keffer.
7. P-405-106 | 4-23-14 | FERC Staff.⁵
8. CP14-96-000 | 4-23-14 | State of Maine Representatives and Senators.⁶
9. CP14-96-000 | 4-23-14 | Members of Congress.⁷
10. P-2232-000 | 4-23-14 | Members of Congress.⁸
11. ER13-1380-000, ER14-500-000 | 4-24-14 | Hon. Terry Gipson.
12. CP14-101, PF13-17-000 | 4-24-14 | Members of Congress.⁹
13. CP14-119-000, CP14-120-000, CP14-122-000, PF12-8-000 | 4-24-14 | Members of Congress.¹⁰
14. ER13-1380-000, ER14-500-000 | 4-24-14 | Hon. Chris Gibson.
15. CP13-113-000 | 4-25-14 | Hon. May L. Landrieu.
16. CP14-125-000 | 4-29-14 | Members of Congress.¹¹
17. ER13-1380-000, ER14-500-000 | 4-30-14 | Hon. Sean Patrick Maloney.¹²
18. ER13-1380-000 | 4-30-14 | City of Kingston, NY.¹³
19. CP13-483-000, CP13-492-000 | 5-1-14 | FERC Staff.¹⁴
20. ER14-1050-000 | 5-5-14 | Members of Congress.¹⁵
¹ One of eighteen (18) comments submitted on April 30, 2014 involving creation of a new capacity zone within New York Independent Systems Operator's footprint.
² Notes from April 17, 2014 bi-weekly telephone conference with federal cooperating agencies.
³ Telephone memo dated March 25, 2014.
⁴ Individual letters from Commissioner Christi Craddick and Chairman Barry T. Smitherman.
⁵ Telephone memo (calls dated April 9, 2014, April 11, 2014, April 15, 2014, and April 21, 2014).
⁶ Individual letters from Jeff McCabe, Barry J. Hobbins, Seth Berry, Anne Haskell, Troy Jackson, Michael D. Thibodeau.
⁷ Hons. Angus S. King, Jr., Kelly Ayotte, Chris Murphy, Susan Collins, Richard Blumenthal, Jeanne Shaheen, Jack Reed, Sheldon Whitehouse.
⁸ Hons. Lindsey Gragam, Tim Scott, James E. Clyburn, Joe Wilson, Jeff Duncan, Trey Gowdy, Mick Mulvaney, Tom Rice.
⁹ Hon. Rand Paul and Ed Whitfield.
¹⁰ Individual letters from Senator Mary L. Landrieu and Representative Pete Olson.
¹¹ Hons. David Vitter and Bill Cassidy.
¹² Records of April 30 telephone call and meeting with Acting Chairman LaFleur.
¹³ One of seventeen (17) comments submitted on April 30, 2014 and May 1, 2014 involving creation of a new capacity zone within New York Independent (continued . . .) Systems Operator's footprint. Including, individual comments from New York State Assembly Members Didi Barrett and Kieran Michale Lalor, New York State Senator Terry Gipson, and the New York State Public Service Commission.
¹⁴ Notes from April 30, 2014 bi-weekly telephone conference with federal cooperating agencies.
¹⁵ Hons. Jeanne Shaheen, Patrick Leahy, Edward J. Markey, Kelly Ayotte, Richard Blumenthal, Christopher Murphy, Sheldon Whitehouse, Jack Reed, Elizabeth Warren.

Dated: May 8, 2014.
Kimberly D. Bose,
Secretary.

[FR Doc. 2014-11099 Filed 5-13-14; 8:45 am]

BILLING CODE 6717-01-P